FEDERAL MARITIME COMMISSION

Ocean Transportation Intermediary License Revocations and Terminations

The Commission gives notice that the following Ocean Transportation Intermediary licenses have been revoked or terminated for the reason indicated pursuant to section 19 of the Shipping Act of 1984 (46 U.S.C. 40101) effective on the date shown.

License No.: 000988F.

Name: H.E. Schurig and Co. of Louisiana.

Address: 177 O.K. Avenue, Harahan, LA 70123.

Date Revoked: February 8, 2014.

Reason: Failed to maintain a valid bond.

License No.: 001593N.

Name: Robertson Forwarding Co., Inc.

Address: 7166 NW 12th Street, Miami, FL 33126.

Date Revoked: February 7, 2014.

Reason: Failed to maintain a valid bond.

License No.: 1656F.

Name: Rank Shipping Incorporated.

Address: One Cross Island Plaza, 1st Floor, Suite 127, Rosedale, NY 11422.

Date Revoked: February 22, 2014.

Reason: Failed to maintain a valid bond.

License No.: 10848N.

Name: Prestige Shipping Co., Inc.

Address: 614 Progress Street, Elizabeth, NJ 07201.

Date Revoked: January 31, 2014.

Reason: Failed to maintain a valid bond.

License No.: 017080N.

Name: General Cargo & Logistics.

Address: 17828 S. Main Street, Carson, CA 90248.

Date Revoked: February 11, 2014.

Reason: Failed to maintain a valid bond.

License No.: 018411N.

Name: Merco International, Inc.

Address: 1680 NW 82nd Avenue, Miami, FL 33126.

Date Revoked: February 27, 2014.

Reason: Failed to maintain a valid bond.

License No.: 019065F.

Name: Gonzalez Exporting Corp. dba Goexco.

Address: 5587 NW 72nd Avenue, Miami, FL 33166.

Date Revoked: February 7, 2014.

Reason: Failed to maintain a valid bond.

License No.: 019187F.

Name: Caribbean Logistic & Marketing Services, Inc.

Address: El Naranjal D-5 Calle 3, Toa Baja, Puerto Rico 00949.

Date Revoked: February 27, 2014.

Reason: Failed to maintain a valid bond.

License No.: 019989N.

Name: Alpine Freight Services, Inc.

Address: 4 Winchester, Irvine, CA 92620.

Date Revoked: February 21, 2014.

Reason: Failed to maintain a valid bond.

License No.: 021288N.

Name: Shipping Logistics, LLC.

Address: 3340-C Greens Road, Suite 200, Houston, TX 77032.

Date Revoked: February 25, 2014.

Reason: Voluntary surrender of license.

License No.: 022216F.

Name: Sun US Transport Corp.

Address: 6449 Whittier Blvd., Los Angeles, CA 90022.

Date Revoked: February 9, 2014.

Reason: Failed to maintain a valid bond.

License No.: 022459NF.

Name: A Cargo Inc.

Address: 4634 East Marginal Way South, Suite C-120, Seattle, WA 98134.

Date Revoked: February 20, 2014.

Reason: Failed to maintain valid bonds.

License No.: 023172NF.

Name: Miami Freight & Logistics Services, Inc. dba Miami Global Lines dba Miami Global Freight Lines, Inc.

Address: 3630 NW 76th Street, Miami, FL 33143.

Date Revoked: February 15, 2014.

Reason: Failed to maintain valid bonds.

Sandra L. Kusumoto,
Director, Bureau of Certification and Licensing.

[FR Doc. 2014-07374 Filed 4-1-14; 8:45 am]

BILLING CODE 6730-01-P